DEPARTMENT OF LABOR

Office of the Secretary

Submission for OMB Review: Comment Request

October 23, 2006.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained from RegInfo.gov at http://www.reginfo.gov/public/do/PRAMain or by contacting Darrin King on 202-693-4129 (this is not a toll-free number) / e-mail: king.darrin@dol.gov.

Comments should be sent to Office of Information and Regulatory Affairs, Attn: OMB Desk Officer for the Mine Safety and Health Administration (MSHA), Office of Management and Budget, Room 10235, Washington, DC 20503, Telephone: 202-395-7316 / Fax: 202-395-6974 (these are not a toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title: Daily Inspection of Surface Coal Mines; Certified Person; Reports of Inspection (Pertains to Surface Coal Mines).

OMB Number: 1219-0083.

Type of Response: Recordkeeping.

Affected Public: Private Sector: Business or other for-profit.

Number of Respondents: 1,620.

Estimated Number of Annual Responses: 492,480.

Average Response Time: Approximately 1.5 hours.

Estimated Annual Burden Hours: 738,720.

Total Annualized capital/startup costs: $0.

Total Annual Costs (operating/maintaining systems or purchasing services): $0.

Description: Section 77.1713, Title 30 of the Code of Federal Regulations requires coal mine operators to conduct examinations of each active working area of surface mines, active surface installations at these mines, and preparation plants not associated with underground coal mines for hazardous conditions during each shift. A report of hazardous conditions detected must be entered into a record book along with a description of any corrective actions taken.

The records are used by MSHA inspectors to determine compliance with the standard, and that any hazards found have either been corrected or barricaded. These records are used by mine operators to identify areas of the mine or equipment that present hazards to miners and, therefore, must be corrected to prevent miner injuries or death. Repeated hazardous conditions in any area or involving a particular piece of equipment would indicate to the operator the need for modification of operating procedures or replacement or repair of equipment.

Agency: Mine Safety and Health Administration.

Type of Review: Extension without change of currently approved collection.

Title: Explosive Materials and Blasting Units (pertains to metal and nonmetal underground mines deemed to be gassy).

OMB Number: 1219-0095.

Type of Response: Reporting.

Affected Public: Private Sector: Business or other for-profit.

Number of Respondents: 1.

Estimated Number of Annual Responses: 1.

Average Response Time: 1 hour.

Estimated Annual Burden Hours: 1.

Total Annualized capital/startup costs: $0.

Total Annual Costs (operating/maintaining systems or purchasing services): $0.

Description: Under Title 30 U.S. Code of Federal Regulations Parts 7 and MSHA evaluates and approves explosive materials and blasting units as permissible for use in the mining industry. However, since there are no permissible explosives or blasting units available that have adequate blasting capacity for some metal and nonmetal gassy mines, 30 CFR 57.22606(a) outlines the procedures for mine operators to follow when using non-approved explosive materials and blasting units. The standard provides that mine operators of metal or nonmetal gassy mines must notify MSHA in writing prior to their use of non-approved explosive materials and blasting units. MSHA then evaluates the non-approved explosive materials and determines whether they are safe for use in a potentially gassy environment.

MSHA uses the information provided by the mine operator to determine whether non-approved blasting materials and explosives and procedures are safe for use in a gassy underground metal or nonmetal mine. Without such determinations, miners may be exposed to significant safety risks.

Ira L. Mills,
Departmental Clearance Officer.

[FR Doc. E6-18160 Filed 10-27-06; 8:45 am]

BILLING CODE 4510-43-P